DEPARTMENT OF HEALTH AND HUMAN SERVICES

Centers for Disease Control and Prevention

[Program Announcement 02163]

Support for Civil Society Organizations Responding to HIV/AIDS in Zimbabwe; Notice of Availability of Funds; Amendment III

A notice announcing the availability of Fiscal Year 2002 funds for cooperative agreements for Support for Civil Society Organizations Responding to HIV/AIDS in Zimbabwe was published in the Federal Register on May 23, 2002, Volume 67, Number 100, Pages 36194-36196. Amendment II to the original notice was published in the Federal Register on August 6, 2002, Volume 67, Number 101, Pages 50891-50892 to communicate a set of Funding Priorities established by the CDC-Zimbabwe AIDS Program Office.

This Amendment serves to announce that CDC has elected to rescind Amendment II to this Program Announcement. The responsiveness of all applications received under this Program Announcement will be evaluated against the Evaluation Criteria set forth in the original Program Announcement published May 23, 2002. Applicants are not required to submit any additional information or applications.

Dated: October 4, 2002.
Sandra R. Manning,
Director, Procurement and Grants Office, Centers for Disease Control and Prevention.

[FR Doc. 02-26066 Filed 10-11-02; 8:45 am]

BILLING CODE 4163-18-P